DEPARTMENT OF EDUCATION

National Assessment Governing Board; Meeting

AGENCY: Department of Education, National Assessment Governing Board.

ACTION: Notice; correction.

SUMMARY: The National Assessment Governing Board published a document in the Federal Register of July 24, 2009, announcing the schedule and proposed agenda of a forthcoming meeting of the National Assessment Governing Board. The meeting agenda has been revised and this notice provides the correct dates and times for the revised meeting agenda.

FOR FURTHER INFORMATION CONTACT: Munira Mwalimu at (202) 357-6906.

Correction

In the Federal Register of July 24, 2009, in FR DOCID: FR Doc. E9-17728 filed on July 23, 2009, Volume 74, Number 141, page 36683, third column, the second full paragraph that begins “The full Board will meet in closed session from 12:30 p.m. to 1:30 p.m. to receive a briefing on the NAEP 2007 State Mapping Study from Peggy Carr, the Associate Commissioner of NCES. The Governing Board will be provided with embargoed data on the State Mapping Study that cannot be discussed in an open meeting prior to their official release. Premature disclosure of data would significantly impede implementation of the NAEP program, and is therefore protected by exemption 9(B) of section 552b(c) of Title 5 U.S.C.” is cancelled and replaced with the following paragraph, which was an agenda item originally scheduled for discussion on Saturday August 8 from 8:30 a.m. to 10 a.m.:

“The full Board will meet in closed session on August 7 from 12:30 p.m. to 2 p.m. to receive a demonstration on NAEP Science Interactive Computer Tasks. The interactive computer tasks are secure items and cannot be discussed in an open meeting. Premature disclosure of the test items would significantly impede implementation of the NAEP program, and is therefore protected by exemption 9(B) of section 552b(c) of Title 5 U.S.C.” The paragraph appearing on the first full paragraph of page 36684 describing this agenda item is deleted.

Due to the agenda item change above, the times for the remaining agenda items for the August 7 and 8 sessions described on pages 36683 and 36684 of the Federal Register Notice are changed as follows:

(1) August 7—The presentation of Expert Panel Reports to the Ad Hoc Committee on NAEP Testing and Reporting of Students with Disabilities and English language Learners originally scheduled from 1:30 p.m. to 2:45 p.m. will now take place from 2:15 p.m. to 3:30 p.m. (instead of 1:30 p.m. to 2:45 p.m.).

(2) August 7—The Update on Common Core Standards Project will now take place from 3:30 p.m. to 4:15 p.m. (instead of 3 p.m. to 3:45 p.m.).

(3) August 7—The Update on the NAEP 2012 Technological Literacy Framework will be moved from Friday August 7 to Saturday August 8 from 8:30 a.m. to 9:15 a.m.

(4) August 8—Board Action on Policies and Committee Reports will take place from 9:30 a.m. to 11 a.m.

(5) The August 8 session of the Governing Board meeting will adjourn at 11 a.m.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-888-293-6498; or in the Washington, DC area at (202) 512-1530.

Note: The official version of this document is the document published in the Federal Register. Free Internet access to the official edition of the Federal Register and the Code of Federal Regulations is available on GPO Access at: http://www.gpoaccess.gov/nara/index.html.

Dated: July 31, 2009.
Cornelia S. Orr,
Executive Director, U.S. Department of Education, National Assessment Governing Board.

[FR Doc. E9-18766 Filed 8-5-09; 8:45 am]

BILLING CODE 4000-01-P